DEPARTMENT OF ENERGY

Federal Energy Regulatory Commission

[Docket No. CP03-131-000]

Natural Gas Pipeline Company of America; Notice of Application

May 5, 2003.

Take notice that on April 28, 2003, Natural Gas Pipeline Company of America (Natural), 747 East 22nd Street, Lombard, Illinois 60148, filed in Docket No. CP03-131-000, an application pursuant to Section 7(b) of the Natural Gas Act (NGA) and Parts 157 of the Commission's Rules and Regulations for permission and approval to abandon an inactive injection/withdrawal well and the associated 2,380 foot 8-inch lateral and 6-inch meter facilities located at Natural's North Lansing storage field in Harrison County, Texas, all as more fully set forth in the application. This filing may be viewed on the Commission's Web site at http://www.ferc.gov using the “FERRIS” link. Enter the docket number excluding the last three digits in the docket number field to access the document. For assistance, please contact FERC Online Support at FERCOnlineSupport@ferc.gov and follow the instructions or toll-free at (866) 208-3676, or for TTY, contact (202) 502-8659.

Any questions or correspondence concerning this application should be addressed to: Bruce H. Newsome, Vice President, Natural Gas Pipeline Company of America, 747 East 22nd Street, Lombard , Illinois 60148, phone (630) 691-3526.

Natural states that the injection/withdrawal well has been plugged and inactive since 1997 when a leak was detected in the production tubing. Natural states further that the Texas Railroad Commission regulations required the well to be plugged. Natural asserts that the lateral that is connected to the well has been inactive since the well was plugged, as has the associated meter, and also asserts that the location of the subject lateral at the storage field is not conducive for future connections to other possible wells.

Natural avers that if the authorization sought herein is approved, the injection/withdrawal well and the lateral would be retired in place, and the meter would be removed from the ground and returned to stock.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protest only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission review process, a final Commission order approving or denying a certificate will be issued.

Comment Date: May 27, 2003.

Magalie R. Salas,
Secretary.

[FR Doc. 03-11654 Filed 5-9-03; 8:45 am]

BILLING CODE 6717-01-P